DEPARTMENT OF ENERGY

Federal Energy Regulatory Commission

Combined Notice of Filings #1

Take notice that the Commission received the following electric rate filings:

Docket Numbers: ER17-1803-000.

Applicants: Southwest Power Pool, Inc.

Description: § 205(d) Rate Filing: 1883R6 Westar Energy, Inc. NITSA and NOA to be effective 9/1/2017.

Filed Date: 6/14/17.

Accession Number: 20170614-5008.

Comments Due: 5 p.m. ET 7/5/17.

Docket Numbers: ER17-1804-000.

Applicants: Southwest Power Pool, Inc.

Description: § 205(d) Rate Filing: 1886R6 Westar Energy, Inc. NITSA and NOA to be effective 9/1/2017.

Filed Date: 6/14/17.

Accession Number: 20170614-5009.

Comments Due: 5 p.m. ET 7/5/17.

Docket Numbers: ER17-1805-000.

Applicants: Southwest Power Pool, Inc.

Description: § 205(d) Rate Filing: 2891 AECC and Entergy Arkansas Attachment AO Cancellation to be effective 6/1/2017.

Filed Date: 6/14/17.

Accession Number: 20170614-5010.

Comments Due: 5 p.m. ET 7/5/17.

Docket Numbers: ER17-1806-000.

Applicants: Southwest Power Pool, Inc.

Description: § 205(d) Rate Filing: 1891R6 Westar Energy, Inc. NITSA and NOA to be effective 9/1/2017.

Filed Date: 6/14/17.

Accession Number: 20170614-5011.

Comments Due: 5 p.m. ET 7/5/17.

Docket Numbers: ER17-1807-000.

Applicants: Southwest Power Pool, Inc.

Description: § 205(d) Rate Filing: 1890R6 Westar Energy, Inc. NITSA and NOA to be effective 9/1/2017.

Filed Date: 6/14/17.

Accession Number: 20170614-5020.

Comments Due: 5 p.m. ET 7/5/17.

Docket Numbers: ER17-1808-000.

Applicants: Southwest Power Pool, Inc.

Description: § 205(d) Rate Filing: 1887R6 Westar Energy, Inc. NITSA and NOA to be effective 9/1/2017.

Filed Date: 6/14/17.

Accession Number: 20170614-5034.

Comments Due: 5 p.m. ET 7/5/17.

Docket Numbers: ER17-1809-000.

Applicants: Southwest Power Pool, Inc.

Description: § 205(d) Rate Filing: 1888R6 Westar Energy, Inc. NITSA and NOA to be effective 9/1/2017.

Filed Date: 6/14/17.

Accession Number: 20170614-5037.

Comments Due: 5 p.m. ET 7/5/17.

Docket Numbers: ER17-1810-000.

Applicants: Midcontinent Independent System Operator, Inc.

Description: § 205(d) Rate Filing: 2017-06-14_SA 2928 ITCTransmission-Tuscola Wind III Amended GIA (J301) to be effective 5/31/2017.

Filed Date: 6/14/17.

Accession Number: 20170614-5038.

Comments Due: 5 p.m. ET 7/5/17.

Docket Numbers: ER17-1811-000.

Applicants: Southwest Power Pool, Inc.

Description: § 205(d) Rate Filing: 1889R6 Westar Energy, Inc. NITSA and NOA to be effective 9/1/2017.

Filed Date: 6/14/17.

Accession Number: 20170614-5046.

Comments Due: 5 p.m. ET 7/5/17.

Docket Numbers: ER17-1813-000.

Applicants: Southwest Power Pool, Inc.

Description: § 205(d) Rate Filing: 1892R6 Westar Energy, Inc. NITSA and NOA to be effective 9/1/2017.

Filed Date: 6/14/17.

Accession Number: 20170614-5049.

Comments Due: 5 p.m. ET 7/5/17.

Docket Numbers: ER17-1814-000.

Applicants: Southwest Power Pool, Inc.

Description: § 205(d) Rate Filing: 1893R6 Westar Energy, Inc. NITSA and NOA to be effective 9/1/2017.

Filed Date: 6/14/17.

Accession Number: 20170614-5051.

Comments Due: 5 p.m. ET 7/5/17.

Docket Numbers: ER17-1815-000.

Applicants: Southwest Power Pool, Inc.

Description: § 205(d) Rate Filing: 1894R6 Westar Energy, Inc. NITSA and NOA to be effective 9/1/2017.

Filed Date: 6/14/17.

Accession Number: 20170614-5053.

Comments Due: 5 p.m. ET 7/5/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 14, 2017.
Nathaniel J. Davis, Sr.,
Deputy Secretary.

[FR Doc. 2017-13005 Filed 6-21-17; 8:45 am]

BILLING CODE 6717-01-P